DEPARTMENT OF HEALTH AND HUMAN SERVICES

Centers of Disease Control and Prevention

[Docket Number NIOSH 105]

Notice of Request for Public To Submit Comments and Attend Public Meeting

AGENCY: National Institute for Occupational Safety and Health (NIOSH) of the Centers for Disease Control and Prevention (CDC), Department of Health and Human Services (HHS).

ACTION: Notice.

The National Institute for Occupational Safety and Health (NIOSH) of the Centers for Disease Control and Prevention (CDC) announces the following meeting and request for public comment on the following draft document: “NIOSH Hazardous Drugs List Update.”

The documents can found at: http://www.cdc.gov/niosh/topics/hazdrug/2007publicmeeting.

Public Comment Period: Comments must be postmarked by September 20, 2007. Comments may be submitted electronically to niocindocket@cdc.gov or to Diane Miller, Robert A. Taft Laboratories, 4676 Columbia Parkway, MS C-34, Cincinnati, Ohio 45226. Comments should reference the NIOSH Docket Number 105.

Meeting Date and Time: August 28, 2007 9 a.m.-5 p.m.

Place: Marriott Metro Center Hotel, 775 12th Street, NW., Washington, DC 20005.

Purpose of Meeting: To discuss and obtain comments on the draft document, “NIOSH Hazardous Drugs List Update.” Special emphasis will be placed on discussion of the following:

(1) The appropriateness and relevancy of the NIOSH definition of Hazardous Drugs;

(2) the appropriateness and relevancy of the drugs that fit the NIOSH definition; and

(3) the appropriateness and relevancy of the drugs that do not fit the NIOSH definition.

Status: The forum will include scientists and representatives from various government agencies, industry, labor, and other stakeholders, and is open to the public, limited only by the space available. Persons interested in providing comments need to notify Diane Miller by July 20, 2007. Ms. Miller can be reached by telephone at (513) 533-8450 or by e-mail at niocindocket@cdc.gov. Persons wanting to provide comments will be permitted up to 10 minutes, subject to available time. If additional time becomes available, presenters will be notified. Oral comments given at the meeting will be recorded and included in the docket. Written comments will also be accepted at the meeting. NIOSH will use this information to help assess and revise the definition and/or list of Hazardous Drugs.

Contact for Technical Information: Barbara MacKenzie, NIOSH, Robert A. Taft Laboratories, 4676 Columbia Pkwy. MS C-26, Cincinnati, OH 45226, Telephone 513-533-8132, e-mail hazardousdrugs@cdc.gov.

Contact Person for Submitting Comments/Meeting Attendance: Diane Miller, Robert A. Taft Laboratories, 4676 Columbia Parkway, MS C-34, Cincinnati, Ohio 45226, telephone (513) 533-8450. All material submitted to the Agency should reference docket number NIOSH 105.

All information received in response to this notice will be available for public examination and copying at the NIOSH Docket Office, 4676 Columbia Parkway, Cincinnati, Ohio 45226.

Dated: June 11, 2007.
James D. Seligman,
Chief Information Officer, Centers for Disease Control and Prevention.

[FR Doc. E7-11680 Filed 6-15-07; 8:45 am]

BILLING CODE 4163-18-P